FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 22, 2017.

A. Federal Reserve Bank of Chicago (Colette A. Fried, Assistant Vice President) 230 South LaSalle Street, Chicago, Illinois 60690-1414:

1. GGC, LLP, an Iowa Limited Partnership, Council Bluffs, Iowa; Richard Gibson, Kim Gibson, and Tracy Connealy, all of Council Bluffs, Iowa; as a group acting in concert, to retain and acquire additional voting shares of TS Contrarian Bancshares, Inc., Treynor, Iowa and thereby indirectly acquire voting shares of The Bank of Tioga, Tioga, North Dakota and First National Bank & Trust Company, Clinton, Illinois.

B. Federal Reserve Bank of St. Louis (David L. Hubbard, Senior Manager) P.O. Box 442, St. Louis, Missouri 63166-2034. Comments can also be sent electronically to Comments.applications@stls.frb.org:

1. Nancy Toler Grigsby, individually and as trustee of the Nancy Toler Grigsby Trust UTA 11/22/2010, the Cynthia Toler Hale Trust UTA 11/22/2010, and the John A. Grigsby Trust A, and as a family control group that also includes Cynthia Toler Hale; to retain voting shares of MNB Bancshares, Inc., and thereby retain shares of The Malvern National Bank, all of Malvern, Arkansas.

Board of Governors of the Federal Reserve System, August 2, 2017.
Yao-Chin Chao,
Assistant Secretary of the Board.

[FR Doc. 2017-16600 Filed 8-4-17; 8:45 am]

BILLING CODE 6210-01-P